DEPARTMENT OF COMMERCE

National Oceanic and Atmospheric Administration

[RTID 0648-XC560]

New England Fishery Management Council; Public Meeting

AGENCY: National Marine Fisheries Service (NMFS), National Oceanic and Atmospheric Administration (NOAA), Commerce.

ACTION: Notice of public meeting.

SUMMARY: The New England Fishery Management Council (Council, NEFMC) will hold a four-day in-person meeting with an option for remote participation to consider actions affecting New England fisheries in the exclusive economic zone (EEZ). The Council continues to follow all public safety measures related to COVID-19 and intends to do so for this meeting.

DATES: The meeting will be held on Monday, December 5, 2022 through Thursday, December 8, 2022, beginning at 1 p.m. on Monday and 9 a.m. on Tuesday, Wednesday, and Thursday.

ADDRESSES:

Meeting address: The meeting will be held at the Hotel Viking, One Bellevue Avenue, Newport, RI 02840; telephone: (401) 847-3300; online at https://www.hotelviking.com/. Join the webinar at https://attendee.gotowebinar.com/register/8990407940060984847.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Monday, December 5, 2022

After brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, and the Northeast Trawl Advisory Panel. Next, the Council will receive a briefing from NOAA General Counsel on disclosure of financial interests and voting recusal regulations for Regional Fishery Management Council members. This will be followed by an introduction to the Chief of the Bureau of Ocean Energy Management's (BOEM) Office of Renewable Energy Programs, who will provide comments on the responsibilities of this position and take questions. Then, the Habitat Committee will provide its report, which will cover: (1) an update on a framework adjustment to facilitate offshore Atlantic salmon aquaculture; (2) a discussion on the retention of the Georges Bank Dedicated Habitat Research Area; and (3) an update on offshore energy issues and other habitat-related work. As the last item of business for the day, the Council will have a discussion on policies for preventing harassment of Council staff and all other Council process participants.

Tuesday, December 6, 2022

The Council will begin the second day of its meeting with a Northeast Fisheries Science Center presentation on the peer-reviewed results of the September 2022 Monkfish Management Track Stock Assessment. Next, the Council will receive a presentation on the peer-reviewed September 2022 Management Track Stock Assessments for numerous groundfish stocks. The Council then will receive a report from its Scientific and Statistical Committee (SSC), which will cover SSC recommendations for overfishing limits (OFLs) and acceptable biological catches (ABCs) for: (1) Georges Bank cod and Georges Bank yellowtail flounder for fishing years 2023-24, as well as 14 other groundfish stocks for fishing years 2023-25; (2) monkfish for fishing years 2023-25; and (3) Atlantic sea scallops for fishing year 2023 and defaults for fishing year 2024.

After the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. Next, the Council will take up the Groundfish Committee report, which is focused on final action for Framework Adjustment 36 to the Northeast Multispecies Fishery Management Plan (FMP). The framework includes: (1) 2023-24 total allowable catches (TACs) for U.S./Canada shared resources on Georges Bank; (2) 2023-24 specifications for Georges Bank cod and Georges Bank yellowtail flounder; (3) 2023-25 specifications for 14 additional groundfish stocks; (4) revised rebuilding plan for Gulf of Maine cod; (5) additional measures to promote Georges Bank and Gulf of Maine cod stock rebuilding; and (6) acceptable biological catch (ABC) control rule revisions for groundfish. At the conclusion of this discussion, the Council will adjourn for the day.

Wednesday, December 7, 2022

The Council will lead off the third day of its meeting discussing Atlantic sturgeon. First, GARFO will provide a presentation on the final action plan for Atlantic sturgeon, which will be followed by a Council discussion on next steps to reduce sturgeon bycatch in federal large-mesh gillnet fisheries. Next, the Council will take up final action on Framework Adjustment 13 to the Monkfish FMP, which contains 2023-25 fishery specifications and other measures. The Council will move into the Scallop Committee report, which will focus on final action for Framework Adjustment 36 to the Atlantic Sea Scallop FMP. The framework includes specifications for the 2023 fishing year, default specifications for the 2024 fishing year, and other measures.

Following the lunch break, the Council will engage in an afternoon-long discussion as a next step under the East Coast Climate Change Scenario Planning initiative. This will be a facilitated discussion to identify main takeaways and potential actions across four thematic areas—management and governance, data and science, alternative ocean uses, and adaptability—developed through the East Coast Climate Change Scenario Planning initiative. The Council will recommend and prioritize actions for evaluation at a February 2023 Summit to assist East Coast fishery management organizations in adapting to climate change. At the conclusion of this discussion, the Council will adjourn for the day.

Thursday, December 8, 2022

The Council will lead off the fourth day of its meeting with the Ecosystem-Based Fishery Management (EBFM) Committee report, which will include: (1) a preliminary summary of the in-person EBFM Public Information Workshops conducted in October and November; (2) an overview of the Prototype Management Strategy Evaluation (MSE) scoping meetings for EBFM and the Georges Bank example Fishery Ecosystem Plan (eFEP); and (3) a short overview of the November 2022 Council Member Ongoing Development (CMOD) meeting in Denver, CO. The Council then will receive a spiny dogfish presentation and approve specifications for the 2023 spiny dogfish fishing year. Next on the agenda, the Council will receive the 2022 Small-Mesh Multispecies (Whiting) Annual Monitoring Report covering the 2021 fishing year. The Council then will review and approve a comment letter on NOAA's updated Saltwater Recreational Fisheries Policy.

Following the lunch break, the Council will discuss and take final action on 2022 Council Priorities for all fishery management plans and other Council responsibilities. Finally, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: November 15, 2022.
Diane M. DeJames-Daly,
Acting Deputy Director, Office of Sustainable Fisheries, National Marine Fisheries Service.

[FR Doc. 2022-25191 Filed 11-17-22; 8:45 am]

BILLING CODE 3510-22-P